DEPARTMENT OF LABOR

Mine Safety and Health Administration

30 CFR Part 49

Mine Rescue Teams

CFR Correction

In Title 30 of the Code of Federal Regulations, Parts 1 to 199, revised as of July 1, 2012, on page 264, in § 49.11, in paragraph (b), in the table, the last two entries are corrected to read as follows:

§ 49.11 Purpose and scope.

* * * * *

(b) * * *

Table 49.11—Summary of New Miner Act Requirements for Underground Coal Mine Operators and Mine Rescue Teams
Requirement | Type of mine rescue team: Mine-site | Type of mine rescue team: Composite | Type of mine rescue team: Contract | Type of mine rescue team: State-sponsored
* * * * * * *
Team must include at least two active employees from each covered large mine and at least one active employee from each covered small mine |  | YES |  |
Team must be comprised of persons with a minimum of 3 years underground coal mine experience that shall have occurred within the 10-year period preceding their employment on the contract mine rescue team |  |  | YES |

* * * * *

[FR Doc. 2013-15940 Filed 6-28-13; 8:45 am]

BILLING CODE 1505-01-D